DEPARTMENT OF AGRICULTURE

Forest Service

Fox and Crescent Reservoir Maintenance, High Uintas Wilderness, Ashley National Forest, Duchesne County, UT

AGENCY: Forest Service, USDA.

ACTION: Notice of intent to prepare an environmental impact statement.

SUMMARY: Dry Gulch Irrigation Company (DGIC), holder of special use permits to operate Fox and Crescent reservoir dams in the High Uintas Wilderness on the Ashley National Forest, has requested permission to maintain the dam structures to correct deficiencies that may result in failure of the dams in the near future. This maintenance work will require an assessment of environmental consequences, including those associated with proposals to use motorized and mechanical tools and equipment within the boundaries of the High Uintas Wilderness.

DATES: To be most useful for early identification of issues, comments concerning the scope of the analysis should be received in writing by May 29, 2001.

ADDRESSES: Written comments and questions should be send to: Dave Frew, Interdisciplinary Team Leader, Attn: Fox Lake Project, Roosevelt/Duchesne Ranger Districts, Ashley National Forest, 244 West Highway 40, Roosevelt, Utah 84066.

FOR FURTHER INFORMATION CONTACT: Specific questions about the proposed project and analysis should be directed to Dave Frew, Interdisciplinary Team Leader, 244 West Highway 40, Roosevelt, Utah 84066.

Responsible Official: Jack Blackwell, Regional Forester, Intermountain Region, is the responsible official for this EIS and the Record of Decision.

SUPPLEMENTARY INFORMATION: This proposal arose due to concerns found in various state and federal inspections of these dams over the past couple of years. Both of these dams are over 70 years old, and like all human made structures require periodic maintenance to insure their safe continued operation. These reservoirs are accessible only by primitive trail—there are not roads accessing these facilities. In the past, these reservoirs have been accessed from time to time by helicopter. The reservoirs must be maintained if storage is to continue to be allowed.

In 1984, Congress designated the area encompassing these reservoir sites at the High Uintas Wilderness, further complicating access by the wilderness provision against motorized or mechanical access or the use of motorized or mechanical tools and equipment. The 1964 Wilderness Act provides that motorized transport, tools and equipment and/or mechanical access may be authorized in specific circumstances, that being when it is determined they are the minimum requirement necessary for the proper administration of the area, and when authorized by the proper authority.

Proposed Action

DGIC proposes the following activities to insure the proper maintenance of the dams. Both the State of Utah Department of Natural Resources, Division of Water Rights, and the Forest Service agree that the maintenance activities proposed meet the technical requirements, and are necessary to accomplish if the dams are to continue to be used for their intended purpose. The proposed action involves helicopter transport to the reservoir sites for materials and equipment, and also proposes on-site motorized equipment to complete the work.

Fox Lake

Repairs to the outlet pipe with consist of slip lining the existing 36 inch corrugated pipe with 30″ ID and a 32½″ OD 40 pound pressure HEPE pipe with two joints totaling 96 ft. 6 inches, with a stainless steel band to join the pipes. A new structure will be formed and a new concrete structure will be poured. The outlet structure may also need to be replaced, or if not replaced, then some grout work will be necessary. Existing head gate controls will be removed and the wet well will be filed with native material. A new 30-inch Waterman head gate and frame assembly will be installed on the inlet end of the outlet pipe. The southwest levee will be raised approximately 3 inches in elevation to match the elevation of the dam. The north levee will be raised approximately 9 inches to match the elevation of the dam. Native material from existing borrow pits are proposed to be used to complete this portion of the project. There may also be some work on the main dike to insure proper freeboard.

The leak at the toe of the southwest levee will be excavated into the downstream toe and a sand filter installed to stop any fine material movement through the dike. This sand will be over laid with native material.

Any leaks on the upstream apron of the spillway will be repaired. An 8 inch thick retaining wall, three feet high, and 22 feet long will be poured on the downstream apron and will be doweled into the existing concrete spillway and the cracks will also be repaired. Riprap will be placed on the downstream to protect the spillway. All woody vegetation will be removed from the existing dam, levees, and dike (this action could take place annually or as needed for long term maintenance.)

Crescent Lake

A new head gate frame assembly will be installed and any repairs to the head gate or outlet pipe will be performed to ensure proper operation. The cracks in the masonry dam will be repaired using a grout facing material and glue mixture.

The proposed action requires the following materials at the reservoir sites: An oxygen and acetylene torch, 24 pieces of ½ inch rebar, one generator, one generator welder, two portable electric cement mixers, one grout pump, 100 gallons of fuel, one containment trough, six feet of 36 inch culvert and band, two wheel barrows, two 2 inch water pumps, sealable containers for transportation of human waste materials from the job site, 96.5 feet of HDPE pipe, a 30 inch Waterman head gate, miscellaneous lumber and forms, miscellaneous tools and supplies, and camp equipment and supplies for the work crews.

Transporting these tools and equipment will require an estimated minimum of 16 to 22 helicopter flights. The project is estimated to take 40-45 days with work crews varying from six to fourteen personnel. The helicopter operation will require a staging area be established at a site outside the wilderness at the Reader Creek meadows. The staging area is accessed via the Chepeta Lake road, and the helicopter refueling operations will take place at the staging area. Helicopter drop zones will be located either on the dam itself or within close proximity, to the work areas. If possible, drop zones will be within the reservoir area.

It is proposed that four saddle horses be at the worksite for the duration of the project for safety reasons, and four to six draft horses be available for 21 days to assist with the project work. There will be other horses used as needed for transportation to and from the worksite. The livestock will be using forage areas to the north and west of Fox reservoir. Supplemental feed may be required for the livestock. Campsites will be established t6o support up to 14 persons at one time per campsite. Campsites will be at least one mile apart.

Alternatives

At least two and possibly three action alternatives will be considered in the analysis.

Alternative 1—Proposed Action (As Described Above)

Alternative 2—Complete Repairs Using Primitive Means

This alternative will basically require that the needed work be done with wilderness friendly tools and equipment—minimizing or eliminating the proposed means of access by helicopter and the one-site motorized and mechanical equipment to perform the needed work. This alternative must be analyzed with the understanding that changing the proposal to the extent that repairs cannot effectively be made to meet safety and other pertinent standards will not meet the purpose and need of the project.

Alternative 3—Modification of the Proposed Action

There may be other ways to accomplish the needed work through some variation or modification of the proposed action that will further address important issues or minimize impacts and costs of the project. These modifications often become apparent as the analysis of the project goes forward and our publics become involved in the process.

Alternative 4—No Action

Under this alternative, the proposed repairs will not be completed. This will require that a storage restriction be put on the Fox reservoir immediately and shortly on the Crescent reservoir. Future work under this alternative will require activity to permanently stabilize these reservoirs so as not to function as draw down reservoirs. This alternative effectively eliminates the reservoirs as storage for late season irrigation water to the farms and ranches in the Uinta Basin.

Issues

The following is a preliminary list of issues identified by the ID Team. Other issues raised during public involvement will also be discussed in this EIS. The preliminary issues include:

1. Impacts of the project on wilderness values.

2. Ability to use legally held water rights.

3. Access to the sites—impacts on existing trails.

4. Water Quality.

5. Riparian Areas/Stream Conditions.

6. Borrow areas and sites—material sources.

7. Rehabilitation of disturbed areas.

8. Impact to wilderness visitors including noise, dust, and opportunities for solitude.

9. Impacts to wildlife resources including Threatened, Endangered and Sensitive species.

10. Impacts to outfitter—guide operations.

11. Historical integrity of the dams.

Decision To Be Made

The decision to be made is: Should the DGIC be allowed to effect the repairs, as proposed, on Fox and Crescent dams to allow further use of the reservoirs as storage for late season irrigation water as presently authorized under special use permit, and, if so, what motorized and mechanical tools and equipment will be allowed in the designated High Uintas Wilderness to complete the project. A decision will also be made on the location of the helicopter-staging site outside the wilderness.

Public Involvement

Public participation is especially important at several points during the analysis, particularly during initial scoping and review of the draft EIS. Individuals, organizations, federal, state, and local agencies who are interested in or affected by the decision are invited to participate in the scoping process. This information will be used in the preparation of the draft EIS.

The second major opportunity for public input is during the review of the draft EIS. The draft EIS is expected to be filed with the EPA (Environmental Protection Agency) and to be available for public review in September, 2001. At that time the EPA will publish a notice of availability of the draft EIS in the Federal Register. The comment period on the draft EIS will be 45 days from the date the EPA's notice of availability appears in the Federal Register. It is very important that those interested in this proposed action participate at that time. To be the most helpful, comments on the draft EIS should be as specific as possible and may address the adequacy of the statement or the merits of the alternatives discussed (Reviewers may wish to refer to the Council on Environmental Quality Regulations for implementing the procedural provisions of the National Environmental Policy Act at 40 CFR 1503.3 in addressing these points). The Forest Service believes, at this early stage, it is important to give reviewers notice of several federal court rulings related to public participation in the environmental review process. First, reviewers of draft environmental impact statements must structure their participation in the environmental review process. First, reviewers of draft environmental impact statements must structure their participation in the environmental review of the proposal so that it is meaningful and alerts an agency to the reviewer's position and contentions. Vermont Yankee Nuclear Power Corp. v. NRDC, 435 U.S. 519, 533 (1978). Also environmental objections that could be raised at the draft EIS stage, but that are not raised until after completion of the final EIS, may be waived or dismissed by the courts. City of Angoon v. Hodel, (9th Circuit, 1986) and Wisconsin Heritages, Inc v. Harris, 490 F. Supp. 1334, 1338 (E.D. Wis, 1980). Because of these court rulings, it is very important that those interested in this proposed action participate by the close of the 30-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternates formulated and discussed in the statement. Reviewers may wish to refer to the Council on environmental Quality Regulations for implementing the procedural provisions of the National Environmental Policy Act at 40 CFR 1503.3 in addressing these points.

After the comment period ends on the draft EIS, the comments will be analyzed and considered in preparing the final EIS. The final EIS is scheduled for completion in March, 2002.

Dated: April 16, 2001.
Jack G. Troyer,
Deputy Regional Forester.

[FR Doc. 01-11740 Filed 5-9-01; 8:45 am]

BILLING CODE 3401-11-M